DEPARTMENT OF COMMERCE

Foreign-Trade Zones Board

[Order No. 1898]

Reorganization of Foreign-Trade Zone 241 Under Alternative Site Framework, Fort Lauderdale, Florida

Correction

In notice document 2013-11203 appearing on pages 27364-27365 in the issue of Friday, May 10, 2013, make the following correction:

On page 27365, in the first column, in the thirty-first line, “May” should read “April”.

[FR Doc. C1-2013-11203 Filed 5-16-13; 8:45 am]

BILLING CODE 1505-01-D